FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in the BHC Act (12 U.S.C. 1842(c)).

Comments regarding each of these applications must be received at the Reserve Bank indicated or the offices of the Board of Governors, Ann E. Misback, Secretary of the Board, 20th Street and Constitution Avenue NW, Washington DC 20551-0001, not later than March 16, 2020.

A. Federal Reserve Bank of Philadelphia (William Spaniel, Senior Vice President) 100 North 6th Street, Philadelphia, Pennsylvania 19105-1521. Comments can also be sent electronically to Comments.applications@phil.frb.org:

1. William Penn, MHC, and William Penn Bancorp, Inc., both of Bristol, Pennsylvania; to become bank holding companies by acquiring Washington Savings Bank, Philadelphia, Pennsylvania.

2. William Penn, MHC, and William Penn Bancorp, Inc., both of Bristol, Pennsylvania; to acquire Fidelity Savings & Loan Association of Bucks County, Bristol, Pennsylvania.

B. Federal Reserve Bank of San Francisco (Applications and Enforcement Section) 101 Market Street, San Francisco, California 94105-1579:

1. GUVJEC Investment Corporation, Baltimore, Maryland; to become a bank holding company by acquiring Farmington Bancorp, Bothell, Washington, and thereby indirectly acquire Farmington State Bank, Farmington, Washington.

Board of Governors of the Federal Reserve System, February 10, 2020.
Michele Taylor Fennell,
Assistant Secretary of the Board.

[FR Doc. 2020-02921 Filed 2-12-20; 8:45 am]

BILLING CODE P